DEPARTMENT OF THE INTERIOR

U.S. Geological Survey

[GX12LC00BM3FD00]

Agency Information Collection Activities: Comment Request

AGENCY: U.S. Geological Survey (USGS), Interior.

ACTION: Notice of an extension of an information collection (1028-0079).

SUMMARY: To comply with the Paperwork Reduction Act of 1995 (PRA), we are notifying the public that we will submit to OMB an extension of a currently approved information collection (IC) for the “North American Breeding Bird Survey, (1 USGS form).” As required by the Paperwork Reduction Act (PRA) of 1995, and as part of our continuing efforts to reduce paperwork and respondent burden, we invite the general public and other Federal agencies to take this opportunity to comment on this IC. This collection is scheduled to expire on July 31, 2012.

DATES: Submit written comments by May 1, 2012.

ADDRESSES: Please send your comments concerning the IC to the USGS to the Information Collection Clearance Officer, Shari Baloch, U.S. Geological Survey, 12201 Sunrise Valley Drive MS 807, Reston, VA 20192 (mail); 703-648-7199 (fax); or smbaloch@usgs.gov (email). Reference Information Collection 1028-0079 in the subject line.

FOR FURTHER INFORMATION CONTACT: Keith Pardieck at (301) 497-5843 (phone); kpardieck@usgs.gov (email); or 12100 Beech Forest Road, Laurel, Maryland, 20708 (mail).

SUPPLEMENTARY INFORMATION:

I. Abstract

Respondents supply the U.S. Geological Survey with avian population data for more than 600 North American bird species. The raw survey data, resulting population trend estimates, and relative abundance estimates will be made available via the Internet and through special publications, for use by Government agencies, industry, education programs, and the general public. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

II. Data

Title: North American Breeding Bird Survey.

OMB Control Number: 1028-0079.

Form Number: 840.

Type of Request: Extension of a currently approved collection.

Respondent Obligation: Voluntary.

Frequency: Annually.

Estimated Number and Description of Respondents: Approximately 1,600 individuals skilled in avian identification will participate.

Estimated Number of Responses: 2600.

Annual Burden Hours: 28,600.

Estimated Annual Reporting and Recordkeeping “Hour” Burden: We estimate the public reporting burden averages 11 hours per response. This includes the time for reviewing instructions, gathering and maintaining data, and completing and reviewing the information.

Estimated Reporting and Recordkeeping “Non-Hour Cost” Burden: Mileage costs are on average $55.50 per response. This includes an approximate 100-mile round trip for data collection.

Public Disclosure Statement: The PRA (44 U.S.C. 3501, et seq.) provides that an agency may not conduct or sponsor a collection of information unless it displays a currently valid OMB control number and current expiration date.

III. Request for Comments

We invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Please note that any comments submitted in response to this notice are a matter of public record. Before including your address, phone number, email address or other personal identifying information in your comment, you should be aware that your entire comment including your personal identifying information, may be made publically available at anytime. While you can ask OMB in your comment to withhold your personal identifying information from public review, we cannot guarantee that will be done.

Dated: February 23, 2012.
Anne Kinsinger,
Associate Director for Ecosystems.

[FR Doc. 2012-5173 Filed 3-1-12; 8:45 am]

BILLING CODE 4311-AM-P